DEFENSE NUCLEAR FACILITIES SAFETY BOARD

Sunshine Act Meetings

FEDERAL REGISTER CITATION OF PREVIOUS ANNOUNCEMENT: The original notice for this meeting was published at 83 FR 50088 on October 4, 2018.

PREVIOUSLY ANNOUNCED TIME AND DATE OF THE MEETING: Tuesday, October 9, 2018, from 2:00 p.m. to 4:00 p.m.

CHANGES IN THE MEETING: This meeting will now occur on October 23, 2018, from 2:00 p.m. to 4:00 p.m.

CONTACT PERSON FOR MORE INFORMATION: Glenn Sklar, General Manager, Defense Nuclear Facilities Safety Board, 625 Indiana Avenue NW, Suite 700, Washington, DC 20004-2901, (800) 788-4016. This is a toll-free number.

Dated: October 9, 2018.
Bruce Hamilton,
Chairman.

[FR Doc. 2018-22287 Filed 10-9-18; 4:15 pm]

BILLING CODE 3670-01-P